DEPARTMENT OF COMMERCE

National Oceanic and Atmospheric Administration

[RTID 0648-XD551]

Marine Mammals; File No. 26593

AGENCY: National Marine Fisheries Service (NMFS), National Oceanic and Atmospheric Administration (NOAA), Commerce.

ACTION: Notice; receipt of application for permit amendment.

SUMMARY: Notice is hereby given that Adam Pack, Ph.D., University of Hawaii at Hilo, 200 West Kawili Street, Hilo, HI 96720, has applied for an amendment to Scientific Research Permit No. 26593.

DATES: Written comments must be received on or before December 26, 2023.

ADDRESSES: The application and related documents are available for review by selecting “Records Open for Public Comment” from the “Features” box on the Applications and Permits for Protected Species (APPS) home page, https://apps.nmfs.noaa.gov, and then selecting File No. 26593 from the list of available applications. These documents are also available upon written request via email to NMFS.Pr1Comments@noaa.gov.

Written comments on this application should be submitted via email to NMFS.Pr1Comments@noaa.gov. Please include File No. 26593 in the subject line of the email comment.

Those individuals requesting a public hearing should submit a written request via email to NMFS.Pr1Comments@noaa.gov. The request should set forth the specific reasons why a hearing on this application would be appropriate.

FOR FURTHER INFORMATION CONTACT: Carrie Hubard or Courtney Smith, Ph.D., (301) 427-8401.

SUPPLEMENTARY INFORMATION: The subject amendment to Permit No. 26593 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

Permit No. 26593, issued on March 13, 2023 (88 FR 23400, April 17, 2023), authorizes the permit holder to study 29 cetacean species in Hawaiian and Alaskan waters, with a focus on humpback whales (Megaptera novaeangliae). The purpose of the research is to examine the behavioral ecology, biology and communication systems of humpback whales as well as the abundance, distribution, behavior, and physiological stress levels of all cetacean species in the study area. Research may be conducted from boats, airplanes, unmanned aircraft systems (UAS), and underwater. Animals may be studied using photo-ID, videogrammetry, passive acoustic recordings, behavioral observations, collection of fecal and skin samples, biopsy sampling, and suction-cup tagging. The permit holder is requesting the permit be amended to add active acoustic playbacks to humpback whales and to authorize suction-cup tagging of an additional 98 humpback whales annually as part of the acoustic research. In addition, Dr. Pack is requesting to add UAS deployment of suction-cup tags as a procedure for humpback whales. The objective of the acoustic playbacks are to examine humpback whale responses to vessel engine noise, conspecific sounds, natural ambient noise, and tonal sounds in Hawaiian waters. The permit expires on April 30, 2028.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: November 20, 2023.
Julia M. Harrison,
Chief, Permits and Conservation Division, Office of Protected Resources, National Marine Fisheries Service.

[FR Doc. 2023-25920 Filed 11-22-23; 8:45 am]

BILLING CODE 3510-22-P